DEPARTMENT OF HEALTH AND HUMAN SERVICES

Substance Abuse and Mental Health Services Administration (SAMHSA)

Notice of a Meeting

Pursuant to Public Law 92-463, notice is hereby given of a meeting of the Substance Abuse and Mental Health Services Administration (SAMHSA) National Advisory Council in October 2001.

The SAMHSA National Advisory Council meeting will be open and will include discussions on the Agency's restructuring and delayering plans and 2002 Appropriations, a presentation on the National Household Survey on Drug Abuse, an update on SAMHSA's 2001 Grant Awards, and a presentation on the Surgeon General's Report on Culture, Race and Ethnicity. In addition, there will be presentations by four SAMHSA National Advisory Council members on State drug trends and epidemiology data; on mental health and substance abuse issues of women and children; on current issues related to co-occurring disorders; and on mental health system changes in the State of Wyoming. Finally, there will be a discussion on what SAMHSA is doing to market itself.

Attendance by the public will be limited to space available. Public comments are welcome. Please communicate with the individual listed as contact below to make arrangements to comment or to request special accommodations for persons with disabilities.

Substantive program information, a summary of the meeting, and a roster of Council members may be obtained from the contact whose name and telephone number is listed below.

Committee Name: SAMHSA National Advisory Council.

Date/Time: Tuesday, October 2, 2001, 9:00 a.m. 5:45 p.m. (Open); Wednesday, October 3, 2001, 8:30 a.m. to 4:00 p.m. (Open).

Place: Gaithersburg Marriott Washingtonian Center, 9751 Washingtonian Boulevard, Gaithersburg, Maryland 20878.

Contact: Toian Vaughn, Executive Secretary, 5600 Fishers Lane, Parklawn Building, Room 17-89, Rockville, MD 20857, Telephone: (301) 443-7016; FAX: (301) 443-1587 and e-mail: TVaughn@samhsa.gov.

Dated: September 13, 2001.
Toian Vaughn,
Committee Management Officer, SAMHSA.

[FR Doc. 01-23265 Filed 9-18-01; 8:45 am]

BILLING CODE 4162-20-P